DEPARTMENT OF TRANSPORTATION

Federal Aviation Administration

14 CFR Part 71

[Docket No. FAA-2019-0661; Airspace Docket No. 19-AEA-9]

RIN 2120-AA66

Amendment of Area Navigation Routes Q-75 and Q-475, Northeast Corridor Atlantic Coast Routes; Northeastern United States

AGENCY: Federal Aviation Administration (FAA), DOT.

ACTION: Final rule.

SUMMARY: This action modifies high altitude area navigation (RNAV) routes Q-75, and Q-475 in the northeastern United States. This action supports the Northeast Corridor Atlantic Coast Route (NEC ACR) Project. The modified routes were developed to improve the efficiency of the National Airspace System (NAS), expand the availability of area navigation (RNAV) routing, and reduce dependency of the NAS on ground-based navigational systems.

DATES: Effective date 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/.

For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it supports the air traffic service route structure in the southeastern United States to maintain the efficient flow of air traffic.

History

The FAA published a notice of proposed rulemaking for Docket No. FAA-2019-0661 in the Federal Register (84 FR 50341; September 25, 2019) modifying RNAV routes Q-75, and Q-475 in the northeastern United States. Interested parties were invited to participate in this rulemaking effort by submitting written comments on the proposal. No comments were received.

Area navigation routes are published in paragraph 2006, of FAA Order 7400.11D dated August 8, 2019, and effective September 15, 2019, which is incorporated by reference in 14 CFR 71.1. The area navigation routes listed in this document will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by modifying RNAV routes Q-75 and Q-475, in the northeastern United States in support of the Northeast Corridor Atlantic Coast Route project.

The Q-route amendments are as follows:

Q-75: Q-75 currently extends between the ENEME, GA, WP, and the Greensboro, NC, (GSO) VORTAC. The amended route is extended from the Greensboro, NC, VORTAC northeast to the COPLY, MA, WP (approximately 20 NM east of the Boston, MA, (BOS) VOR/DME). Between the Greensboro, NC, VORTAC and the COPLY, MA, WP, the following points are added to the route: BROSK, NC, WP; DRAIK, VA, Fix; Gordonsville, VA, (GVE) VORTAC; HAMMZ, VA, WP; TOOBN, MD, WP; MURPH, MD, Fix; SACRI, MD, Fix ; STOEN, PA, Fix; Modena, PA, (MXE) VORTAC; COPES, PA, Fix; BIGGY, NJ, Fix; Solberg, NJ, (SBJ) VOR/DME; JERSY, NJ, Fix; DUEYS, NY, Fix; BIZEX, NY, WP; GREKI, CT, Fix; NELIE, CT, Fix; SWALO, MA, Fix; and the Boston, MA, (BOS) VOR/DME. This change provides RNAV routing between Greensboro, NC and the Boston, MA, area.

Q-475: Q-475 currently extends between the TUSKY, OA, Fix and the PERLU, Canada, WP. This action extends Q-475 from the TUSKY, OA, Fix westward to the COPLY, MA, WP (located approximately 20 NM northeast of the Boston, MA, VOR/DME). The CANAL, MA, WP, and the SCUPP, OA, Fix are added between the TUSKY Fix and the COPLY WP.

Note: The Q-475 route description includes the SCUPP and TUSKY Fixes located over international waters. In the route description, in place of a two-letter state abbreviation for the SCUPP and TUSKY Fixes, “OA,” meaning “Offshore Atlantic,” is used.

Full route descriptions of the proposed amended routes are listed in “The Amendment” section of this notice.

The amended routes in this notice will significantly expand the availability of high altitude RNAV routing along the eastern seaboard of the U.S. The project is designed to increase airspace capacity and reduce complexity in high volume areas through the use of optimized routes through congested airspace.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying high altitude RNAV Q-75 and Q-475 qualifies for a categorical exclusion under the National Environmental Policy Act and its implementing regulations at 40 CFR part 1500, and in accordance with FAA Order 1050.1F—Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 2006 United States Area Navigation Routes.

* * * * *

Q75 ENEME, GA to COPLY, MA [Amended]
ENEME, GA | WP | (Lat. 30°42′12.09″ N, long. 082°26′09.31″ W)
TEUFL, GA | WP | (Lat. 31°52′00.46″ N, long. 082°01′04.56″ W)
TEEEM, GA | WP | (Lat. 32°08′41.20″ N, long. 081°54′50.57″ W)
SHRIL, GA | WP | (Lat. 32°54′42.21″ N, long. 081°34′09.78″ W)
FISHO, SC | WP | (Lat. 33°16′46.25″ N, long. 081°24′43.52″ W)
ILBEE, SC | WP | (Lat. 34°18′41.66″ N, long. 081°01′07.88″ W)
SLOJO, SC | WP | (Lat. 34°38′46.31″ N, long. 080°39′25.63″ W)
GREENSBORO, NC (GSO) | VORTAC | (Lat. 36°02′44.49″ N, long. 079°58′34.95″ W)
BROSK, NC | WP | (Lat. 36°14′52.55″ N, long. 079°47′39.93″ W)
DRAIK, VA | FIX | (Lat. 37°08′02.15″ N, long. 078°58′58.56″ W)
Gordonsville, VA (GVE) | VORTAC | (Lat. 38°00′48.96″ N, long. 078°09′10.90″ W)
HAMMZ, VA | WP | (Lat. 38°43′51.56″ N, long. 077°19′59.85″ W)
TOOBN, MD | WP | (Lat. 38°59′54.31″ N, long. 076°59′25.83″ W)
MURPH, MD | FIX | (Lat. 39°27′51.22″ N, long. 076°23′07.24″ W)
SACRI, MD | FIX | (Lat. 39°36′07.34″ N, long. 076°10′24.70″ W)
STOEN, PA | FIX | (Lat. 39°50′17.54″ N, long. 075°47′54.92″ W)
Modena, PA (MXE) | VORTAC | (Lat. 39°55′05.00″ N, long. 075°40′14.96″ W)
COPES, PA | FIX | (Lat. 40°07′50.57″ N, long. 075°22′36.37″ W)
BIGGY, NJ | FIX | (Lat. 40°25′10.62″ N, long. 074°58′21.73″ W)
Solberg, NJ (SBJ) | VOR/DME | (Lat. 40°34′58.95″ N, long. 074°44′30.45″ W)
JERSY, NJ | FIX | (Lat. 40°47′28.99″ N, long. 074°23′58.00″ W)
DUEYS, NY | FIX | (Lat. 41°09′09.46″ N, long. 073°47′48.52″ W)
BIZEX, NY | WP | (Lat. 41°17′02.86″ N, long. 073°34′50.20″ W)
GREKI, CT | FIX | (Lat. 41°28′48.03″ N, long. 073°18′50.98″ W)
NELIE, CT | FIX | (Lat. 41°56′27.64″ N, long. 072°41′18.88″ W)
SWALO, MA | FIX | (Lat. 42°03′55.75″ N, long. 072°11′37.10″ W)
Boston, MA (BOS) | VOR/DME | (Lat. 42°21′26.82″ N, long. 070°59′22.37″ W)
COPLY, MA | WP | (Lat. 42°29′52.21″ N, long. 070°33′28.57″ W)
Q475 COPLY, MA to PERLU, Canada [Amended]
COPLY, MA | WP | (Lat. 42°29′52.21″ N, long. 070°33′28.57″ W)
SCUPP, OA | FIX | (Lat. 42°36′11.01″ N, long. 070°13′49.35″ W)
CANAL, MA | FIX | (Lat. 42°40′08.51″ N, long. 070°01′21.76″ W)
TUSKY, OA | FIX | (Lat. 43°33′54.00″ N, long. 067°00′00.00″ W)
SCOTS, Canada | WP | (Lat. 44°30′00.00″ N, long. 064°00′00.00″ W)
BITRA, Canada | WP | (Lat. 45°06′26.00″ N, long. 061°52′44.00″ W)
PERLU, Canada | WP | (Lat. 47°17′25.00″ N, long. 054°02′46.00″ W)
Excluding the portion within Canada.

* * * * *

Issued in Washington, DC, on February 25, 2020.
Scott M. Rosenbloom,
Acting Manager, Rules and Regulations Group.

[FR Doc. 2020-04420 Filed 3-5-20; 8:45 am]

BILLING CODE 4910-13-P